DEPARTMENT OF VETERANS AFFAIRS

[OMB Control No. 2900-0768]

Agency Information Collection Activity Under OMB Review: Joint Application for Comprehensive Assistance and Support Services for Family Caregivers

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before September 16, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0768” in any correspondence.

FOR FURTHER INFORMATION CONTACT: Danny S. Green, Office of Quality, Performance and Risk (OQPR), Department of Veterans Affairs, 810 Vermont Avenue NW, Washington, DC 20420, (202) 421-1354 or email danny.green2@va.gov Please refer to “OMB Control No. 2900-0768” in any correspondence.

SUPPLEMENTARY INFORMATION: Authority: 44 U.S.C. 3501-21.

Title: Joint Application for Comprehensive Assistance and Support Services for Family Caregivers (VA Form 10-10CG).

OMB Control Number: 2900-0768.

Type of Review: Reinstatement with change of a previously approved collection.

Abstract: Public Law (Pub. L.) 111-163, Caregivers and Veterans Omnibus Health Services Act of 2010 amended title 38 United States Code Chapter 17 by adding a new section, 1720G, “Assistance and Support Services for Caregivers.” Section 1720G requires the Department of Veterans Affairs (VA) to develop a Program of Comprehensive Assistance and Support Services for Family Caregivers. Under the law, primary family caregivers may be eligible to receive a stipend, access to health care coverage, mental health counseling, comprehensive caregiver education and training and expanded respite services. Caregivers also may be eligible for travel benefits when they accompany the Veteran for care or attending training.

In order to administer these benefits to caregivers, it is necessary that the VA receive information about the nature of benefit being sought and the persons who will be serving as caregivers and receiving benefits. The information collected will be used to determine if a post-9/11 Veteran or active duty service member undergoing medical discharge qualifies for Caregiver Support Services and whether the individuals designated to serve as primary or secondary family caregivers meet VA's criteria for these roles.

An agency may not conduct or sponsor, and a person is not required to respond to, a collection of information unless it displays a currently valid OMB control number. The Federal Register Notice with a 60-day comment period soliciting comments on this collection of information was published at 84 FR 23640 on May 22, 2019, page 23640.

Affected Public: Individuals or Households.

Estimated Annual Burden: 4,125 hours.

Estimated Average Burden per Respondent: 15 minutes.

Frequency of Response: On occasion.

Estimated Number of Respondents: 16,500.

By direction of the Secretary.
Danny S. Green,
Interim VA Clearance Officer, Office of Quality, Performance and Risk (OQPR), Department of Veterans Affairs.

[FR Doc. 2019-17497 Filed 8-14-19; 8:45 am]

BILLING CODE 8320-01-P